DEPARTMENT OF HOMELAND SECURITY

Federal Emergency Management Agency

[Docket ID FEMA-2017-0002; Internal Agency Docket No. FEMA-B-1706]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: March 21, 2017.
Roy E. Wright,
Deputy Associate Administrator for Insurance and Mitigation, Department of Homeland Security, Federal Emergency Management Agency.

State and county | Location and case no. | Chief executive officer of community | Community map repository | Online location of letter of map revision | Effective date of modification | Community No.
Arizona:
Maricopa | City of Goodyear (16-09-0749P) | The Honorable Georgia Lord, Mayor, City of Goodyear 190 North Litchfield Road, Goodyear, AZ 85338 | Engineering Department, 14455 West Van Buren Street, Goodyear, AZ 85338 | http://www.msc.fema.gov/lomc | May 12, 2017 | 040046
Maricopa | Unincorporated Areas of Maricopa County (16-09-2698P) | The Honorable Clint L. Hickman, Chairman, Board of Supervisors, Maricopa County, 301 West Jefferson Street, 10th Floor, Phoenix, AZ 85003 | Flood Control District of Maricopa County, 2801 West Durango Street, Phoenix, AZ 85009 | http://www.msc.fema.gov/lomc | May 26, 2017 | 040037
Pinal | Town of Florence (16-09-1788P) | The Honorable Tom Rankin, Mayor, Town of Florence, 775 North Main Street, Florence, AZ 85132 | Department of Public Works, 425 East Ruggles, Florence, AZ 85132 | http://www.msc.fema.gov/lomc | May 12, 2017 | 040084
California:
Calaveras | City of Angels (16-09-3078P) | The Honorable Wes Kulm, Mayor, City of Angels, 584 South Main Street, Angels Camp, CA 95222 | Public Works Department, 2990 Centennial Road, Angels Camp, CA 95222 | http://www.msc.fema.gov/lomc | May 17, 2017 | 060021
Calaveras | Unincorporated Areas of Calaveras County (16-09-3078P) | The Honorable Michael C. Oliveria, Chairman, Board of Supervisors, Calaveras County, 891 Mountain Ranch Road, San Andreas, CA 95249 | Calaveras County, Planning Department, 891 Mountain Ranch Road, San Andreas, CA 95249 | http://www.msc.fema.gov/lomc | May 17, 2017 | 060633
Monterey | Unincorporated Areas of Monterey County (17-09-0070P) | The Honorable Jane Parker, Chair, Board of Supervisors, Monterey County, P.O. Box 1728, Salinas, CA 93902 | Monterey County, Water Resources Agency, 893 Blanco Circle, Salinas, CA 93901 | http://www.msc.fema.gov/lomc | May 18, 2017 | 060195
San Diego | City of Poway (17-09-0196P) | The Honorable Steve Vaus, Mayor, City of Poway, 13325 Civic Center Drive, Poway, CA 92064 | City Hall, 13325 Civic Center Drive, Poway, CA 92064 | http://www.msc.fema.gov/lomc | May 26, 2017 | 060702
Idaho:
Ada | Unincorporated Areas of Ada County (16-10-1405P) | Mr. Jim Tibbs, Commissioner, Ada County, 200 West Front Street, 3rd Floor, Boise, ID 83702 | Ada County, County Courthouse, 200 West Front Street, Boise, ID 83702 | http://www.msc.fema.gov/lomc | May 17, 2017 | 160001
Illinois:
Will | Village of Romeoville (16-05-5619P) | The Honorable John D. Noak, Mayor, Village of Romeoville, 1050 West Romeo Road, Romeoville, IL 60446 | Village Hall, 1050 West Romeo Road, Romeoville, IL 60446 | http://www.msc.fema.gov/lomc | May 19, 2017 | 170711
Indiana:
Miami | City of Peru (16-05-4366P) | The Honorable Gabriel Greer, Mayor, City of Peru, City Hall, 35 South Broadway, Peru, IN 46970 | Miami County Courthouse, 25 North Broadway Street, Peru, IN 46970 | http://www.msc.fema.gov/lomc | May 17, 2017 | 180168
Miami | Unincorporated Areas of Miami County (16-05-4366P) | The Honorable Josh Francis, Chairman, Miami County Commissioners, Miami County Courthouse, 25 North Broadway, Peru, IN 46970 | Miami County Courthouse, 25 North Broadway Street, Room 105, Peru, IN 46970 | http://www.msc.fema.gov/lomc | May 17, 2017 | 180409
Iowa:
Scott | City of Davenport, (16-07-1205P). | The Honorable Frank Klipsch, Mayor, City of Davenport, City Hall, 226 West 4th Street, Davenport, IA 52801. | City Hall, 226 West 4th Street, Davenport, IA 52801. | http://www.msc.fema.gov/lomc. | May 18, 2017 | 190242
Minnesota:
Clay | Unincorporated Areas of Clay County (17-05-0558P) | The Honorable Wayne Ingersoll, Vice Chair, Clay County Board of Commissioners, 807 11th Street North, Moorhead, MN 56560 | Clay County Courthouse, 807 11th Street North, Moorhead, MN 56560 | http://www.msc.fema.gov/lomc | May 9, 2017 | 275235
Missouri:
St. Charles | City of O'Fallon (16-07-1736P) | The Honorable Bill Hennessy, Mayor, City of O'Fallon, 100 North Main Street, O'Fallon, MO 63366 | City Hall, 100 North Main Street, O'Fallon, MO 63366 | http://www.msc.fema.gov/lomc | May 12, 2017 | 290316
St. Charles | Unincorporated Areas of St. Charles County (16-07-1736P) | Mr. Steve Ehlmann, County Executive, St. Charles County, 100 North 3rd Street Suite 318, St. Charles, MO 63301 | County Administration Building, 202 North 2nd Street Suite 420, St. Charles, MO 63301 | http://www.msc.fema.gov/lomc | May 12, 2017 | 290315
Ohio:
Huron | City of Bellevue (16-05-5908P) | The Honorable Kevin G. Strecker, Mayor, City of Bellevue, 3000 Seneca Industrial Parkway, Bellevue, OH 44811 | Bellevue City Centre, 3000 Seneca Industrial Parkway, Bellevue, OH 44811 | http://www.msc.fema.gov/lomc | May 12, 2017 | 390487
Sandusky | Unincorporated Areas of Sandusky County (16-05-5908P) | Mr. Charles Schwochow, Sandusky County Commissioner, 622 Croghan Street, Fremont, OH 43420 | Sandusky Regional Planning Office, 606 West State Street, Fremont, OH 43420 | http://www.msc.fema.gov/lomc | May 12, 2017 | 390486
Texas:
Tarrant | City of Colleyville (17-06-0726P) | The Honorable David Kelly, Mayor, City of Colleyville, City Hall, 100 Main Street, Colleyville, TX 76034 | City Hall, 401 Oak Valley Road, Colleyville, TX 76034 | http://www.msc.fema.gov/lomc | April 26, 2017 | 480590
Tarrant | City of Euless (17-06-0726P) | The Honorable Linda Martin, Mayor, City of Euless, City Hall, 201 North Ector Drive, Euless, TX 76039 | City Hall, 201 North Ector Drive, Euless, TX 76039 | http://www.msc.fema.gov/lomc | April 26, 2017 | 480593
Wisconsin:
Rock | City of Evansville (16-05-6630P) | The Honorable Bill Hurtley, Mayor, City of Evansville City Hall, 31 South Madison Street, Evansville, WI 53536 | City Hall, 31 South Madison Street, Evansville, WI 53536 | http://www.msc.fema.gov/lomc | May 4, 2017 | 550366
Rock | Unincorporated Areas of Rock County (16-05-6630P) | Mr. Joshua M. Smith, County Administrator Rock County, Rock County Courthouse, 51 South Main Street, Janesville, WI 53545 | Rock County Courthouse, 51 South Main Street, Janesville, WI 53545 | http://www.msc.fema.gov/lomc | May 4, 2017 | 550363

[FR Doc. 2017-06678 Filed 4-4-17; 8:45 am]

BILLING CODE 9110-12-P